Title 3—

The President

Proclamation 7324 of June 23, 2000

50th Anniversary of the Korean War and National Korean War Veterans Armistice Day, 2000

By the President of the United States of America

A Proclamation

Fifty years ago, on June 25, 1950, armed forces from North Korea shattered the peace in the Land of the Morning Calm as they crossed the 38th Parallel and launched an invasion of South Korea. The communist forces advanced rapidly and, at the outset, appeared close to easy victory. President Truman, recognizing the threat to our South Korean allies and their democracy, responded swiftly and decisively. Through the United Nations Security Council, he marshaled international opposition to the invasion and, on June 27, 1950, committed the first U.S. forces to combat in South Korea.

On some of the world's harshest terrain, through the scorching heat of summer and the numbing cold of winter, American troops fought with steely determination and uncommon courage. As they gained ground, pushing the North Koreans back toward the 38th parallel, American families began to hope that our troops would be home by Christmas. But in November, at the Yalu River in North Korean territory, American forces encountered a new and daunting antagonist: Chinese forces had joined their North Korean allies, and the tide of battle turned once again.

Through months of attack and counterattack, falling back and regaining ground, U.S. troops and our allies refused to succumb to enemy forces. The war dragged into a bloody stalemate and long, bitter talks ensued. Finally, negotiators signed an armistice agreement at Panmunjom on July 27, 1953. North Korea withdrew across the 38th parallel, and the Republic of South Korea regained its status as a free, democratic nation. For the first time in history, a world organization of nations had taken up arms to oppose aggression and, thanks largely to the valor, skill, and perseverance of almost 2,000,000 Americans, had succeeded.

In later years, the Korean War would sometimes be called “the Forgotten War.” But we have not forgotten. We pay honor to the courage of our veterans who fought in Korea and to the thousands who died there or whose fate is still unknown. We recall the grief of their families and the gratitude of the people of South Korea. We remember that, in the Korean War, our soldiers' brave stand against communism laid the foundations of peace and freedom that so many nations enjoy today.

Over the next 3-1/2 years, Americans will gather to observe the 50th anniversary of the Korean War and honor our veterans. The Secretary of Defense will help coordinate many of these events and will develop commemorative and educational materials to help inform the American public about our veterans' many contributions and sacrifices.

The Congress, by Public Law 106-195, has authorized and requested the President to issue a proclamation in observance of the 50th anniversary of the Korean War, and by Public Law 104-19 (36 U.S.C. 127), the Congress has designated July 27, 2000, as “National Korean War Veterans Armistice Day” and has authorized and requested the President to issue a proclamation in observance of that day.

NOW, THEREFORE, I, WILLIAM J. CLINTON, President of the United States of America, do hereby urge all Americans to observe the 50th Anniversary of the Korean War and do hereby proclaim July 27, 2000, as National Korean War Veterans Armistice Day. I call upon all Americans to observe these periods with appropriate ceremonies and activities that honor and give thanks to our distinguished Korean War veterans. I also ask Federal departments and agencies and interested groups, organizations, and individuals to fly the flag of the United States at half-staff on July 27, 2000, in memory of the Americans who died as a result of their service in Korea.

IN WITNESS WHEREOF, I have hereunto set my hand this twenty-third day of June, in the year of our Lord two thousand, and of the Independence of the United States of America the two hundred and twenty-fourth.

wj

[FR Doc. 00-16433

Filed 6-26-00; 12:47 pm]

Billing code 3195-01-P